FEDERAL COMMUNICATIONS COMMISSION

47 CFR Part 1

[WT Docket No. 97-192; FCC 00-408]

Effective Date Established for Procedures for Reviewing Requests for Relief From State and Local Regulations

AGENCY: Federal Communications Commission.

ACTION: Final rule; announcement of effective date.

SUMMARY: In this document, the Federal Communications Commission (“the Commission”) announces that the rule adopted in the RF Procedures Order of November 17, 2000 (RF Procedures Order), regarding its review of requests for relief from impermissible State and local regulation of personal wireless service facilities based on the environmental effects of radiofrequency (RF) emissions has been approved by the Office of Management and Budget (OMB).

DATES: The amendment to § 1.1206(a) published at 66 FR 3499, January 16, 2001, is effective June 15, 2001.

FOR FURTHER INFORMATION CONTACT: Evan Baranoff at (202) 418-7142 of the Wireless Telecommunications Bureau.

SUPPLEMENTARY INFORMATION: On November 17, 2000, the Commission adopted the RF Procedures Order in 47 CFR Part 1, in WT Docket No. 97-192, FCC 00-408 (66 FR 3499) to address the issues raised in the Commission's Notice of Proposed Rulemaking (62 FR 48034) regarding the review of requests for relief from impermissible State and local regulation of personal wireless service facilities based on the environmental effects of radiofrequency (RF) emissions. In the RF Procedures Order, the Commission provided that such requests under section 332(c)(7)(B)(v) of the Communications Act of 1934, as amended,¹ shall be filed as petitions for declaratory ruling, and also established certain required and recommended procedures regarding the service of pleadings and comment periods in such proceedings.

¹ 47 U.S.C. 332(c)(7)(B)(v).

2. The rule change to Note 1 to § 1.1206(a), which was published on January 16, 2001 (66 FR 3499), received OMB approval on June 1, 2001, pursuant to OMB Control No. 3060-0977. The RF Procedures Order amended Note 1 to § 1.1206(a) of the Commission's rules so that the expanded service requirements set forth in that note apply to petitions filed pursuant to section 332(c)(7)(B)(v) (i.e., petitions for relief from impermissible State and local regulation of personal wireless service facilities on the basis of RF emissions). Thus, petitioners seeking relief under Section 332(c)(7)(B)(v) must serve a copy of such petitions on those State and local governments that are the subject of the petitions, as well as on those State and local governments. Accordingly, this rule change will become effective June 15, 2001. This notice constitutes publication of the effective date of this rule change.

3. The Public Notice is available for inspection and copying during normal business hours in the FCC Reference Center, 445 Twelfth Street, SW., Washington, DC. The complete text may be purchased from the Commission's copy contractor, International Transcription Service, Inc., 1231 20th Street, NW., Washington, DC 20036, (202) 857-3800. The Public Notice is also available via the internet at: http://www.fcc.gov/Bureaus/Wireless/News_Releases/2001/index.html in da01-1368.doc and da01-1368.txt formats.

List of Subjects in 47 CFR Part 1

Communications common carriers, Telecommunications, Permit-but-disclose proceedings.

Federal Communications Commission.
Magalie Roman Salas,
Secretary.

[FR Doc. 01-15125 Filed 6-14-01; 8:45 am]

BILLING CODE 6712-01-U